NUCLEAR REGULATORY COMMISSION

Notice of Correction to Biweekly Notice Applications and Amendments to Facility Operating Licenses Involving No Significant Hazards Considerations

On September 20, 2000, the Federal Register published the Biweekly Notice of Applications and Amendments to Facility Operating Licenses Involving Notice of Issuance of Amendments. On page 56964, column 2, TXU Electric, Docket Nos. 50-445 and 50-446, Comanche Peak Steam Electric Station, Unit Nos. 1 and 2, the numbers of the amendments issued should be Amendment Nos. 79 and 79.

Dated at Rockville, Maryland, this 21st day of September 2000.
For the Nuclear Regulatory Commission.
John A. Zwolinski,
Director, Division of Licensing Project Management, Office of Nuclear Reactor Regulation.

[FR Doc. 00-24832 Filed 9-26-00; 8:45 am]

BILLING CODE 7590-01-P